POSTAL SERVICE

39 CFR Parts 961 and 966

Rules of Practice Before the Judicial Officer

AGENCY: Postal Service.

ACTION: Final rule.

SUMMARY: This document contains the final revisions to the rules of practice before the Judicial Officer relative to debt collection against current and former employees. These revisions are necessary to implement an electronic filing system.

DATES: Effective date: September 11, 2015.

ADDRESSES: Written inquiries may be directed to: Postal Service Judicial Officer Department, 2101 Wilson Boulevard, Suite 600, Arlington, VA 22201-3078.

FOR FURTHER INFORMATION CONTACT: Associate Judicial Officer Gary E. Shapiro, (703) 812-1910.

SUPPLEMENTARY INFORMATION:

A. Background

On July 1, 2015, the Judicial Officer Department published for comment proposed revisions to the rules of practice before the Judicial Officer relative to debt collection against current and former postal employees (39 CFR parts 961 and 966, respectively) to implement an electronic filing system (80 FR 37567-8). The period for comments closed on July 31, 2015, and no comments were received. The Judicial Officer has made no further revisions to the original proposed rules, which are now adopted as final.

B. Parts Affected

Part 961 of title 39, Code of Federal Regulations, contains the rules of practice in proceedings under section 5 of the Debt Collection Act of 1982, as amended, 5 U.S.C. 5514, in which the Judicial Officer or an assigned Hearing Official provides the final agency adjudication for debt collection assessments by administrative salary offset issued by the Postal Service seeking to collect a debt owed it by a current employee. This authority is delegated by the Postmaster General.

Part 966 of title 39, Code of Federal Regulations, contains the rules of practice in proceedings relative to administrative offsets initiated against former employees of the Postal Service under section 10 of the Debt Collection Act of 1982, as amended, 31 U.S.C. 3716, in which the Judicial Officer provides the final agency adjudication for debt collection assessments by administrative offset issued by the Postal Service seeking to collect a debt owed it by a former employee. This authority is delegated by the Postmaster General.

C. Explanation of Changes

Amendments to 39 CFR Part 961

In § 961.4, concerning filing a petition:

• Paragraph (a) is amended to identify the internet address for the electronic filing system.

• Paragraph (b) is amended to indicate that a sample petition is available through the electronic filing system.

In § 961.6, concerning the filing, docketing, and serving of documents, paragraph (a) is amended to indicate when documents submitted by parties are considered received, and to indicate when service of documents on the opposing party is required for purposes of the electronic filing system.

Amendments to 39 CFR Part 966

In § 966.4, concerning filing a petition:

• Paragraph (c) is amended to identify the internet address for the electronic filing system.

• Paragraph (d) is amended to indicate that a sample petition is available through the electronic filing system.

In § 966.6, concerning the filing, docketing, and serving of documents, paragraph (a) is amended to indicate when documents submitted by parties are considered received, and to indicate when service of documents on the opposing party is required for purposes of the electronic filing system.

List of Subjects

39 CFR Part 961

Claims, Government employees, Wages.

39 CFR Part 966

Administrative practice and procedure, Claims, Government employees, Wages.

Accordingly, for the reasons stated, the Postal Service amends 39 CFR parts 961 and 966 as follows:

PART 961—RULES OF PRACTICE IN PROCEEDINGS UNDER SECTION 5 OF THE DEBT COLLECTION ACT

1. The authority citation for 39 CFR part 961 continues to read as follows:

Authority: 39 U.S.C. 204, 401; 5 U.S.C. 5514.

2. In § 961.4, revise the first sentence of paragraph (a), and add a sentence at the beginning of paragraph (b) introductory text to read as follows:

§ 961.4 Employee petition for a hearing.

(a) If an employee desires a hearing, prescribed by section 5 of the Debt Collection Act, to challenge the Postal Service's determination of the existence or amount of a debt, or to challenge the involuntary repayment terms proposed by the Postal Service, the employee must file a written petition electronically at https://uspsjoe.justware.com/justiceweb, or by mail at Recorder, Judicial Officer Department, United States Postal Service, 2101 Wilson Blvd., Suite 600, Arlington, VA 22201-3078, on or before the fifteenth (15th) calendar day following the receipt of the Postal Service's “Notice of Involuntary Administrative Salary Offsets Under the Debt Collection Act.” * * *

(b) A sample petition is available through the Judicial Officer Electronic Filing Web site (https://uspsjoe.justware.com/justiceweb).* * *

* * * * *

3. In § 961.6, revise paragraph (a) to read as follows:

§ 961.6 Filing, docketing, and serving documents; computation of time; representation of parties.

(a) Filing. After a petition is filed, all documents relating to the Debt Collection Act hearing proceedings must be filed using the electronic filing system unless the Hearing Official permits otherwise. Documents submitted using the electronic filing system are considered filed as of the date/time (Eastern Time) reflected in the system. Documents mailed to the Recorder are considered filed on the date mailed as evidenced by a United States Postal Service postmark. Filings by any other means are considered filed upon receipt by the Recorder of a complete copy of the filing during normal business hours (Normal Recorder office business hours are between 8:45 a.m. and 4:45 p.m., Eastern Time). If both parties are participating via the electronic filing system, separate service upon the opposing party is not required. Otherwise, documents shall be served personally or by mail on the opposing party, noting on the document filed, or on the transmitting letter, that a copy has been so furnished.

* * * * *

PART 966—RULES OF PRACTICE IN PROCEEDINGS RELATIVE TO ADMINISTRATIVE OFFSETS INITIATED AGAINST FORMER EMPLOYEES OF THE POSTAL SERVICE

4. The authority citation for 39 CFR part 966 continues to read as follows:

Authority: 31 U.S.C. 3716; 39 U.S.C. 204, 401, 2601.

5. In § 966.4, revise paragraph (c), and add a sentence at the beginning of paragraph (d) introductory text to read as follows:

§ 966.4 Petition for a hearing and supplement to petition.

* * * * *

(c) Within thirty (30) calendar days after the date of receipt of the Accounting Service Center's decision upon reconsideration, after the expiration of sixty (60) calendar days after a request for reconsideration where a reconsideration determination is not made, or following an administrative offset taken without prior notice and opportunity for reconsideration pursuant to paragraph (b)(1) of this section, the former employee must file a written petition electronically at https://uspsjoe.justware.com/justiceweb, or by mail at Recorder, Judicial Officer Department, United States Postal Service, 2101 Wilson Blvd., Suite 600, Arlington, VA 22201-3078.

(d) A sample petition is available through the Judicial Officer Electronic Filing Web site (https://uspsjoe.justware.com/justiceweb).* * *

* * * * *

6. In § 966.6, revise paragraph (a) to read as follows:

§ 966.6 Filing, docketing, and serving documents; computation of time; representation of parties.

(a) Filing. After a petition is filed, all documents required under this part must be filed using the electronic filing system unless the Hearing Official permits otherwise. Documents submitted using the electronic filing system are considered filed as of the date/time (Eastern Time) reflected in the system. Documents mailed to the Recorder are considered filed on the date mailed as evidenced by a United States Postal Service postmark. Filings by any other means are considered filed upon receipt by the Recorder of a complete copy of the filing during normal business hours (Normal Recorder office business hours are between 8:45 a.m. and 4:45 p.m., Eastern Time). If both parties are participating via the electronic filing system, separate service upon the opposing party is not required. Otherwise, documents shall be served personally or by mail on the opposing party, noting on the document filed, or on the transmitting letter, that a copy has been so furnished.

* * * * *

Stanley F. Mires,
Attorney, Federal Compliance.

[FR Doc. 2015-22881 Filed 9-10-15; 8:45 am]

BILLING CODE 7710-12-P